DEPARTMENT OF JUSTICE

Drug Enforcement Administration

[Docket No. 13-39]

Masters Pharmaceutical, Inc.; Order

On August 14, 2017, the United States Court of Appeals for the District of Columbia Circuit granted the Agency's motion to dissolve the stay of my Order of September 8, 2015, revoking DEA Certificate of Registration No. RD0277409 issued to Masters Pharmaceutical, Inc. See Masters Pharmaceutical, Inc., v. Drug Enforcement Administration, No. 15-1335 (D.C. Cir. Aug. 14, 2017) (Order). Accordingly, I order that DEA Certificate of Registration No. RD0277409 issued to Masters Pharmaceutical, Inc., be, and it hereby is, revoked. I further order that any application of Masters Pharmaceutical, Inc., to renew or modify this registration, be, and it hereby is, denied. This Order is effective at 12:01 a.m. on August 16, 2017.

Dated: August 15, 2017.
Chuck Rosenberg,
Acting Administrator.

[FR Doc. 2017-17638 Filed 8-18-17; 8:45 am]

BILLING CODE 4410-09-P